FEDERAL TRADE COMMISSION

Agency Information Collection Activities; Proposed Collection; Comment Request; Extension

Correction

In the issue of Monday, May 21, 2001, on page 28036, in the first column, in the correction of notice document 01-11237, in the second paragraph, in the 3rd, 4th, 5th, and 6th lines, “ hrs. x 0.8 x $15 = $3,000).” should read “[Management and attorneys' time (1,000 hrs. x 0.80 x $125 = $100,000)+ clerical time (1,000 hrs. x 0.2 x $15 = $3,000).] ”

[FR Doc. C1-11237 Filed 5-24-01; 8:45 am]

BILLING CODE 1505-01-D